ENVIRONMENTAL PROTECTION AGENCY

40 CFR Part 52

[EPA-R09-OAR-2025-3127; FRL-13098-01-R9]

Determination of Attainment by the Attainment Date; 1997 Ozone Standards; California; Coachella Valley

AGENCY: Environmental Protection Agency (EPA).

ACTION: Proposed determination.

SUMMARY: The Environmental Protection Agency (EPA) is proposing to determine that the Riverside County (Coachella Valley) 1997 ozone Extreme nonattainment area (“Coachella Valley”) attained the 1997 ozone national ambient air quality standards (NAAQS) by its June 15, 2025, attainment date. This proposed determination is based on quality-assured and certified ambient air quality monitoring data from 2022 through 2024. We are taking comments on this proposal and plan to follow with a final action.

DATES: Comments must be received on or before February 17, 2026.

ADDRESSES: Submit your comments, identified by Docket ID No. EPA-R09-OAR-2025-3127 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with a disability who needs a reasonable accommodation at no cost to you, please contact the person identified in the FOR FURTHER INFORMATION CONTACT section.

FOR FURTHER INFORMATION CONTACT: Tom Kelly, EPA Region IX, 75 Hawthorne St., San Francisco, CA 94105; phone: (415) 972-3856; email: kelly.thomasp@epa.gov.

SUPPLEMENTARY INFORMATION: Throughout this document, “we,” “us,” and “our” refer to the EPA.

Table of Contents

I. Background

A. Regulatory Context

B. Coachella Valley 1997 Ozone Designation, Classifications and SIP Revisions

II. EPA Analysis

A. Applicable Statutory and Regulatory Provisions

B. Determination of Attainment

C. Monitoring Network Considerations

D. Data Considerations

E. Effects of This Proposed Determination

III. Action Summary

IV. Statutory and Executive Order Reviews

I. Background

A. Regulatory Context

The Clean Air Act (CAA or “Act”) requires the EPA to establish primary and secondary NAAQS for certain pervasive pollutants that “may reasonably be anticipated to endanger public health and welfare.” ¹ The primary NAAQS is designed to protect public health with an adequate margin of safety, and the secondary NAAQS is designed to protect public welfare and the environment. The EPA has set standards for six common air pollutants, referred to as criteria pollutants, including ozone. These standards represent the air quality levels an area must meet to comply with the CAA.

¹ CAA section 108(a).

Ground-level ozone pollution is formed from the reaction of volatile organic compounds (VOC) and oxides of nitrogen (NOX) in the presence of sunlight.² These two pollutants, referred to as ozone precursors, are emitted by many types of sources, including on- and off-road motor vehicles and engines, power plants and industrial facilities, and smaller area sources such as lawn and garden equipment and paints.

² The State of California refers to reactive organic gases (ROG) rather than VOC in some of its ozone related SIP submissions. As a practical matter, ROG and VOC refer to the same set of chemical constituents, and for the sake of simplicity, we refer to this set of gases as VOC in this determination notification.

Scientific evidence indicates that adverse public health effects occur following exposure to ozone, particularly in children and adults with lung disease. Breathing air containing ozone can reduce lung function and inflame airways, which can increase respiratory symptoms and aggravate asthma or other lung diseases.³

³ EPA, Health Effects of Ozone Pollution, available at https://www.epa.gov/ground-levelozone-pollution/health-effects-ozone-pollution.

On July 18, 1997, the EPA revised the primary and secondary NAAQS for ozone to set the acceptable level of ozone in the ambient air at 0.08 parts per million (ppm), averaged over an 8-hour period.⁴

⁴ 62 FR 38856 (July 18, 1997). Primary standards provide public health protection, including protecting the health of “sensitive” populations such as asthmatics, children, and the elderly. Secondary standards provide public welfare protection, including protection against decreased visibility and damage to animals, crops, vegetation, and buildings. Since the primary and secondary standards established in 1997 are set at the same level, we refer to them herein using the singular “1997 ozone NAAQS” or “1997 ozone standards.”

The EPA set the 1997 ozone NAAQS over an 8-hour period based on scientific evidence demonstrating that ozone causes adverse health effects at lower concentrations and over longer periods of time than was understood when the pre-existing 1-hour ozone standards were set. The EPA determined that the 8-hour standards would be more protective of human health, especially for children and for adults who are active outdoors, and for individuals with a preexisting respiratory disease, such as asthma.

In March 2008, the EPA completed another review of the primary and secondary ozone standards and tightened them further by lowering the level for both to 0.075 ppm.⁵ The EPA revoked the 1997 ozone NAAQS effective April 6, 2015; ⁶ however, to comply with anti-backsliding requirements of the Act, areas designated nonattainment at the time that the 1997 ozone NAAQS was revoked remain subject to certain requirements based on their classification at the time of revocation.

⁵ 73 FR 16436 (March 27, 2008). The EPA further strengthened the primary and secondary eight-hour ozone NAAQS in October 2015 from 0.075 ppm to 0.070 ppm. 80 FR 65291 (October 26, 2015). This action relates only to the 1997 ozone NAAQS.

⁶ 80 FR 12264 (March 6, 2015).

The EPA's determination that an area failed to attain by its attainment date, which is made under CAA section 301 and consistent with section 181(b)(2), triggers these anti-backsliding requirements. See South Coast Air Quality Mgmt. Dist. v. EPA, 882 F.3d 1138, 1147 (D.C. Cir. 2018). On October 26, 2015, the EPA again revised the level of the primary (and secondary) ozone NAAQS once more to 0.70 ppm.

B. Coachella Valley 1997 Ozone Designation, Classifications and SIP Revisions

Following promulgation of a new or revised NAAQS, the EPA is required by the CAA to designate areas throughout the nation as attaining or not attaining the standards. Effective June 15, 2004, we designated nonattainment areas for the 1997 ozone standards.⁷ The designations and classifications for the 1997 ozone standards for California areas are codified at 40 CFR 81.305. In a rule governing certain facets of implementation of the 1997 ozone standards (the Phase 1 Rule), the EPA classified the Coachella Valley as “Serious” for the 1997 ozone standards, with an attainment date no later than June 15, 2013.⁸ This classification applied to areas under the jurisdiction of the State of California and the areas of Indian country within the Coachella Valley.

⁷ 69 FR 23858 (April 30, 2004).

⁸ 69 FR 23858 (April 30, 2004).

The Coachella Valley includes a part of the Colorado Desert in Riverside County, California, as well as parts of the adjacent mountain ranges. For a precise description of the geographic boundaries of the area, see 40 CFR 81.305. The Coachella Valley is under the jurisdiction of the South Coast Air Quality Management District (SCAQMD or “District”). The District and California Air Resources Board (CARB or “State”) are responsible for adopting and submitting a state implementation plan (SIP) to attain the 1997 ozone standards for nonattainment areas in their jurisdiction. The District primarily regulates stationary sources while CARB regulates mobile sources.

On November 28, 2007, CARB requested that the EPA reclassify the Coachella Valley 1997 ozone nonattainment area from “Serious” to “Severe-15.” EPA's proposed rulemaking explained that California's request applied only to areas subject to the jurisdiction of the State of California.⁹ It further explained that the Tribes of the Coachella Valley had not requested authority to administer any Clean Air Act programs in Indian country. In such circumstances, the EPA implements relevant reclassification provisions of the CAA, and that EPA was proposing reclassification for the areas of Indian Country, following notification of Tribal leaders and an invitation for consultation.¹⁰ The EPA granted the reclassification request from CARB and finalized the reclassification of areas of Indian country to Severe, effective June 4, 2010, with an attainment date of not later than June 15, 2019.¹¹

⁹ 74 FR 43654 (August 27, 2009).

¹⁰ Indian Country within the boundaries of the 1997 ozone nonattainment area are the Tribal lands of Agua Caliente Band of Cahuilla Indians of the Augustine Caliente Reservation, the Augustine Band of Cahuilla Indians, the Cabazon Band of Mission Indians, the Santa Rosa Band of Cahuilla Indians and the Torress Martinez Desert Cahuilla Indians and the Twenty-Nine Palms Band of Mission Indians of California.

¹¹ 75 FR 24409 (May 5, 2010).

On June 12, 2017, the EPA approved District and CARB submittals addressing many of the Severe nonattainment area planning requirements under the CAA for Coachella Valley.¹² On June 11, 2019, the State requested a reclassification of Coachella Valley from “Severe-15” to “Extreme,” which the EPA granted with an attainment date of not later than June 15, 2024.¹³ In a final rule dated September 5, 2025, EPA granted a one-year extension of the applicable attainment date to June 15, 2025 at the State's request, upon finding the area satisfied the statutory criteria under CAA section 181(a)(5).¹⁴

¹² 82 FR 26854 (June 12, 2017).

¹³ 84 FR 32841 (July 10, 2019).

¹⁴ 90 FR 42844 (September 5, 2025).

As explained in the action reclassifying the area to Extreme nonattainment, the EPA's reclassification only applied to the portions of the Coachella Valley subject to the State's jurisdiction, and the EPA did not reclassify any areas of Indian country within the boundaries of the nonattainment area. The EPA only reclassifies nonattainment areas to Extreme nonattainment on a voluntary basis. The timing of the State's request so close to the Severe nonattainment date did not allow the EPA sufficient time to consult with the Tribes of the Coachella Valley on their interest in a reclassification to Extreme nonattainment; however, the Tribes were notified of the planned action for part of the Coachella Valley subject to State jurisdiction.¹⁵

¹⁵ 84 FR 32841, 32842 (July 10, 2019).

On April 16, 2024, the EPA proposed approval of District and CARB submittals addressing many of the Extreme area planning requirements under the CAA for Coachella Valley.¹⁶ On June 12, 2024, the EPA finalized approval of certain elements of the Extreme area plan, including the attainment demonstration, but deferred action on the reasonable further progress demonstration and the vehicle miles traveled offset demonstration.¹⁷ On January 21, 2025, EPA finalized approval of the remaining elements of the plan, the vehicle miles traveled offset demonstration and the reasonable further progress demonstration.¹⁸ The State submitted a CAA 185 fee rule on August 13, 2024, but the EPA has yet to act on that submittal.¹⁹

¹⁶ The proposal, 89 FR 26817 (April 16,2024), did not address the submittal's reasonably available control technology demonstration.

¹⁷ 89 FR 49815 (June 12, 2024).

¹⁸ 90 FR 6823 (January 21,2025).

¹⁹ Letter from Steven S. Cliff CARB to Martha Guzman, EPA Region IX, dated August 9, 2024 and electronically submitted on August 13, 2024.

The State submitted a contingency measure for the 1997 ozone NAAQS as part of the Severe Area attainment Plan,²⁰ but the State later withdrew the measure because it relied on previously implemented reductions.²¹ The nonattainment area's Extreme Area attainment plan explained the District's intent to amend SCAQMD Rule 445, “Wood Burning Devices,” to include potential contingency provisions for Coachella Valley for the 1997 ozone standards.²² To date, the EPA has not received a submittal to address the 1997 ozone contingency measures requirements of CAA sections 172(c)(9) and 182(c)(9) for the Coachella Valley.

²⁰ Letter from James N. Goldstene, CARB, to Wayne Nastri, EPA Region IX, dated 11/28/2007.

²¹ Letter from Richard Corey, CARB, to John Busterud, EPA Region IX, dated April 28, 2020. In Bahr v. EPA, 836 F.3d 1218, 1235-1237 (9th Cir. 2016), the Ninth Circuit Court of Appeals held that already-implemented pollution control measures cannot be used as contingency measures. Instead, contingency measures must be conditional and prospective, meaning the measures are triggered by specific events and implemented to achieve emission reductions only after those events occur.

²² “Final Coachella Valley Extreme Area Plan for the 1997 8-Hour Ozone Standard,” South Coast Air Quality Management District, dated December 2020, and submitted to EPA in a letter from CARB dated December 29, 2020, p. 6-30.

II. EPA Analysis

A. Applicable Statutory and Regulatory Provisions

For the revoked 1997 ozone NAAQS, the EPA is required to determine whether an ozone nonattainment area attained the ozone standard by the area's attainment date solely for purposes of triggering any applicable anti-backsliding requirements. For Extreme areas, applicable requirements triggered upon a finding that an area failed to attain by the attainment date are nonattainment contingency measures and CAA section 185 fee programs.²³ A determination of whether an area's air quality meets the 1997 ozone NAAQS is generally based on three years of complete, quality-assured, and certified air quality monitoring data gathered at established State and Local Air Monitoring Stations (“SLAMS”) in the area and entered into the EPA's Air Quality System (AQS) database.²⁴ Data from ambient air monitors operated by state/local agencies in compliance with EPA monitoring requirements must be submitted to the AQS database. Monitoring agencies annually certify that these data are accurate to the best of their knowledge. Accordingly, the EPA relies primarily on data in its AQS database when determining the attainment status of an area.²⁵ All data are reviewed to determine the area's air quality status in accordance with 40 CFR part 50, appendix I.

²³ 40 CFR 51.1105(d)(2)(iii).

²⁴ Generally, a “complete” data set for determining attainment of ozone NAAQS is one that includes three years of data. There are less stringent data requirements for showing that a monitor has failed an attainment test and thus has recorded a violation of the standard.

²⁵ 40 CFR 50.15; 40 CFR part 50, appendix I; 40 CFR part 53; 40 CFR part 58, appendices A, C, D, and E.

Under EPA regulations at 40 CFR 50.10, an area attains the 1997 ozone NAAQS when the 3-year average of the annual fourth-highest daily maximum 8-hour average ozone monitor concentrations is less than or equal to 0.08 ppm (i.e., 0.084 ppm when rounding, based on the truncating conventions in 40 CFR part 50, appendix I). This 3-year average is referred to as the “design value.” When the design value is greater than 0.084 ppm at any monitor within the area, then the area is violating the NAAQS.²⁶ The data completeness requirement is met when the average percent of days with valid ambient monitoring data is greater than or equal to 90 percent and no single year has less than 75 percent data completeness, as determined under appendix I of 40 CFR part 50.²⁷

²⁶ The data handling convention in 40 CFR part 50, appendix I dictates that concentrations shall be reported in ppm to the third decimal place, with additional digits to the right being truncated. Thus, a computed 3-year average ozone concentration of 0.085 ppm is greater than 0.08 ppm and would exceed the standard, but a design value of 0.084 is truncated to 0.08 and attains the 1997 ozone NAAQS.

²⁷ 40 CFR part 50, appendix I, section 2.3(b).

B. Determination of Attainment

Section 179(c) of the CAA requires that within six months following the applicable attainment date, the EPA shall determine whether an ozone nonattainment area attained the standard based on the area's design value as of that date.²⁸ This determination, also referred to as a determination of attainment by the attainment date, is based on certified data leading up to the attainment date, i.e., in this case, data for 2022-2024. Section 179(c)(2) of the CAA requires the EPA to publish the determination in the Federal Register.

²⁸ A determination that an area has attained by the applicable attainment date does not constitute a redesignation to attainment.

The EPA is proposing to determine that the Coachella Valley has attained the 1997 ozone NAAQS by its applicable attainment date; that is, that the average of the annual fourth-highest daily maximum 8-hour average ozone concentrations was at or below 0.084 ppm in the three years leading up to the applicable attainment date. This proposed determination is based on three years of quality-assured and certified ambient air quality monitoring data in AQS for the 2022-2024 monitoring period.

The EPA's proposed determination of attainment is based upon data that have been collected and quality assured in accordance with 40 CFR part 58 and recorded in the EPA's AQS database.²⁹ As discussed in section II.D of this document, ambient air quality monitoring data for the 3-year period preceding the attainment date (i.e., 2022-2024 for the 1997 ozone NAAQS for the Coachella Valley, based on the applicable attainment date of June 15, 2025) meet the data completeness requirements in 40 CFR part 50, appendix I.

²⁹ The EPA maintains the AQS, a database that contains ambient air pollution data collected by the EPA, state, local, and Tribal air pollution control agencies. The AQS also contains meteorological data, descriptive information about each monitoring station (including its geographic location and its operator) and data quality assurance/quality control information. The AQS data is used to (1) assess air quality, (2) assist in attainment/non-attainment designations, (3) evaluate SIPs for nonattainment areas, (4) perform modeling for permit review analysis, and (5) prepare reports for Congress as mandated by the CAA. Access is through the website at https://www.epa.gov/aqs.

C. Monitoring Network Considerations

Section 110(a)(2)(B)(i) of the CAA requires states to establish and operate air monitoring networks to compile data on ambient air quality for all criteria pollutants. The ambient air monitoring network in the Coachella Valley includes air monitoring stations that are managed and operated by SCAQMD. SCAQMD submits annual network plans to the EPA. These plans document the status of the District's air monitoring networks, as required under 40 CFR 58.10. The EPA reviews these annual network plans for compliance with specific requirements in 40 CFR part 58. With respect to ozone, we have found that the annual network plans submitted by SCAQMD meet the minimum monitoring requirements of 40 CFR part 58.³⁰

³⁰ We have included copies of CARB and SCAQMD's annual network plans for 2022-2024 in the docket for this action, along with our reviews of these plans and our associated transmittal correspondence.

Finally, the EPA conducts regular Technical Systems Audits (TSAs) to review and inspect state and local ambient air monitoring programs to assess compliance with applicable regulations concerning the collection, analysis, validation, and reporting of ambient air quality data. As a Primary Quality Assurance Organization (PQAO) in California, SCAQMD is responsible for overseeing the quality of the data it collects. For the purposes of this determination, we reviewed the findings from the EPA's most recent TSA of the SCAQMD ambient air monitoring program.³¹ The results of this TSA found that the District's PQAO quality system was functioning well and produced ozone data suitable for use in regulatory decision-making. Therefore, the results of the TSA do not preclude the EPA from determining that the Coachella Valley has attained the 1997 ozone NAAQS.

³¹ Letter from Matthew Lakin, EPA to Dr. Jason Low, SCAQMD (Technical Systems Audit), dated June 6, 2025.

D. Data Considerations

In accordance with 40 CFR 58.15, SCAQMD annually certifies that the previous year's ambient concentration and quality assurance data are completely submitted to AQS and that the ambient concentration data are accurate, taking into consideration the quality assurance findings.³² The monitoring sites within the Coachella Valley for calendar years 2022 through 2024 are located in Joshua Tree National Park, Palm Springs, and Indio. Table 1 of this document summarizes the ozone monitoring data from the monitoring sites by showing, if available, the annual 4th highest daily maximum concentrations and design values over the 2022-2024 period. The monitoring data is representative of the areas of Indian country as well as land under the jurisdiction of the State of California.

³² We have included SCAQMD's and CARB's annual data certifications for 2022, 2023, and 2024 in the docket for this action.

Table 1—Coachella Valley Monitors With Valid Fourth High 8-Hour Ozone Average Concentrations and Design Values (ppm) for 2022-2024
AQS site ID | Site name | Design value (2022-2024) | 4th Highest daily maximum: 2022 | 4th Highest daily maximum: 2023 | 4th Highest daily maximum: 2024
060650010 | Joshua Tree National Park, Cottonwood Visitor Center | 0.070 | 0.070 | 0.071 | 0.070
060652007 | Indio-Amistad High School ᵃ | Invalid ᵇ | ᵃ N/A | ᵃ N/A | 0.079
060655001 | Palm Springs-Fire Station | 0.084 | 0.084 | ᶜ 0.083 | 0.087
ᵃ The former Indio-Jackson station closed April 20, 2022 and SCAQMD relocated the monitoring site to the nearby Indio-Amistad High School and began monitoring January 1, 2024. EPA approved this relocation on October 29, 2024 after being notified via letter on April 2, 2024, and data from the old and new sites was combined to form one continuous data record for design value calculations.
ᵇ The 2024 design value at the Indio—Amistad High School is invalid due to incomplete data capture in calendar years 2022 (30%) and 2023 (0%).
ᶜ The 2023 design value excludes concurred upon wildfire-driven exceedances of the 1997 ozone NAAQS at the Palms Springs—Fire Station monitoring site on July 14-15, 2023, under the Exceptional Events Rule.
Source: EPA, AQS Design Value (AMP480), Report Request ID: May 27, 2025.

Consistent with the requirements contained in 40 CFR part 50, the EPA has reviewed the quality-assured and certified ozone ambient air monitoring data for completeness. The EPA reviewed the data as recorded in AQS for the applicable monitoring period, collected at the monitoring sites in the Coachella Valley, and has determined that the data are generally complete, with the exception of the Indio-Amistad High School monitor. The former Indio-Jackson monitoring site was closed April 20, 2022, due to loss of the lease and reopened at the nearby Indio-Amistad High School location on January 1, 2024. SCAQMD notified the EPA of this closure via letter on April 2, 2024, and documented it in its 2024 annual network plan. The combined data for the Indio-Jackson Street and Indio-Amistad monitoring sites had design values that were 0.003-0.013 ppm lower than the highest design value site for the previous ten valid design value years (2011-2022) ³³ and has had design values below the 1997 ozone NAAQS since 2020. In addition, the 2024 4th highest daily maximum concentration observed at the Indio-Amistad High School monitoring site was below the level of the 1997 ozone NAAQS and 0.008 ppm lower than that observed at Palm Springs-Fire Station.

³³ AQS Design Value (AMP480), Report Request ID: 2294814, May 27, 2025.

The remaining ozone monitoring sites meet the data completeness requirements of 40 CFR part 50, Appendix I, and, therefore, the data summarized in table 1 of this document are considered complete for the purposes of determining if the standard is met. In light of the extent and reliability of the applicable ozone monitoring network, and the data collected from that network and summarized in table 1 of this document, we are proposing to determine that the Coachella Valley attained the revoked 1997 ozone NAAQS (as defined in 40 CFR part 50, appendix I) by the applicable attainment date (i.e., June 15, 2025).

E. Effects of This Proposed Determination

A determination of attainment by the attainment date does not have the effect of redesignating an area to attainment. Redesignation of an area to attainment requires that an area has met all applicable requirements of CAA section 110 and part D, and that the area has submitted, and the EPA has approved, a redesignation request and maintenance plan.³⁴ Therefore, if we finalize this determination as proposed, Coachella Valley will remain designated nonattainment for the 1997 ozone NAAQS and will retain its current classification of Extreme for this standard. In addition, a final determination of attainment by the extended Extreme area attainment date would not apply to Tribal land, because areas of Indian country in the Coachella Valley nonattainment area remained classified as Severe nonattainment following EPA's action on the voluntary reclassification request to Extreme of state land from CARB and the SCAQMD.³⁵

³⁴ Memorandum dated September 4, 1992 from John Calcagni, EPA, to Regional Air Directors, titled “Procedures for Processing Requests to Redesignate Areas to Attainment.”

³⁵ 84 FR 32841 (July 10, 2019).

If we finalize our proposed determination that the Coachella Valley has attained the 1997 ozone NAAQS by the attainment date, then attainment contingency measures for the 1997 ozone NAAQS would never be required to be implemented, regardless of whether the area continued to attain the NAAQS, and Reasonable Further Progress contingency measures could not be triggered and would therefore no longer be necessary.³⁶ In addition, the Coachella Valley would not collect CAA section 185 fees. A final determination of attainment, however, would not prevent the EPA from exercising its authority under the CAA to address any subsequent violations of the NAAQS.

³⁶ See, e.g., 87 FR 42126, 42130 (July 14, 2022). See also 57 FR 13498, 13564 (April 16, 1992) and Memorandum dated May 10, 1995, from John D. Seitz, EPA, to EPA Regional Air Directors, Regions I-X, Subject: “Reasonable Further Progress, Attainment Demonstration, and Related Requirements for Ozone Nonattainment Areas Meeting the Ozone National Ambient Air Quality Standard,” p. 4.

III. Action Summary

We are proposing to determine that the Coachella Valley has attained the revoked 1997 ozone NAAQS by its June 15, 2025, attainment date, based on quality-assured and certified ambient air quality monitoring data from 2022 through 2024. The EPA is soliciting public comments on this proposed action, our rationale for the proposed action, and any other pertinent matters related to the proposed decision. We will accept comments from the public on this proposal for the next 30 days and will consider comments before taking final action.

IV. Statutory and Executive Order Reviews

Under the CAA, the Administrator is required to approve a SIP submission that complies with the provisions of the Act and applicable Federal regulations 42 U.S.C. 7410(k); 40 CFR 52.02(a). Thus, in reviewing SIP submissions, the EPA's role is to approve State choices, provided that they meet the criteria of the CAA. Accordingly, this action merely approves State law as meeting Federal requirements and does not impose additional requirements beyond those imposed by State law. For that reason, this proposed action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Tribal land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

List of Subjects in 40 CFR Part 52

Environmental protection, Air pollution control, Incorporation by reference, Intergovernmental relations, Nitrogen oxides, Ozone, Reporting and recordkeeping requirements, Volatile organic compounds.

Dated: January 5, 2026.
Michael Martucci,
Acting Regional Administrator, Region IX.

[FR Doc. 2026-00782 Filed 1-14-26; 8:45 am]

BILLING CODE 6560-50-P